NUCLEAR REGULATORY COMMISSION

Notice of Public Meeting to Solicit Stakeholder Input on the Use of Risk Information in the Nuclear Materials and Waste Regulatory Process

AGENCY: Nuclear Regulatory Commission.

ACTION: Notice of meeting

SUMMARY: The U.S. Nuclear Regulatory Commission's (NRC's) Office of Nuclear Materials Safety and Safeguards (NMSS) is developing an approach for using risk information in the nuclear materials and waste regulatory process. As part of this effort, the NRC staff conducted case studies on a spectrum of activities in the nuclear materials and waste arenas to (1) determine what has been done and what could be done in NMSS to alter the regulatory approach in a risk-informed manner and (2) establish a framework for using a risk-informed approach in the materials and waste arenas by testing a set of draft screening criteria, and determining the feasibility of safety goals.

NRC staff is in the process of completing the case studies and finalizing the screening criteria. The staff is also beginning to formulate draft safety goals for materials and waste applications. The purpose of this meeting is to: (1) Present to stakeholders the integrated outcome of the case studies, including the final screening considerations and an early draft of safety goals, and (2) solicit recommendations and comments on how NRC should proceed with incorporating risk information into its regulatory framework. The tentative outline for the meeting is as follows:

1. Poster exhibition of case studies

2. Opening remarks

3. Discuss case study insights and integrated outcome

a. Final screening considerations

b. Process improvements

c. Tools, data, and methods

d. Draft safety goals

4. Receive comments, feedback, and recommendations

5. Closing remarks

The meeting is open to the public; all interested parties may attend and provide comments. Persons who wish to attend the meeting should contact Marissa Bailey no later than October 19, 2001.

DATES: The meeting will be held on October 25, 2001, from 9 a.m. to 4 p.m., in the U.S. Nuclear Regulatory Commission Auditorium, 11545 Rockville Pike, Rockville, MD 20852. From 8 a.m. to 9 a.m., a poster exhibition session will be held in the Auditorium lobby so that participants can discuss specific case study results with the staff.

FOR FURTHER INFORMATION CONTACT: Marissa Bailey, Mail Stop T-8-A-23, U.S. Nuclear Regulatory Commission, Washington, DC 20555-0001. Telephone: (301) 415-7648; Internet: MGB@NRC.GOV.

SUPPLEMENTARY INFORMATION: The NRC staff's case study approach, the draft screening criteria, and the case study areas under consideration are described in the “Plan for Using Risk Information in the Materials and Waste Arenas: Case Studies” which has been published in the Federal Register (65 FR 66782, November 7, 2000). Copies of this plan are also available on the Internet at http://www.nrc.gov/NMSS/IMNS/riskassessment.html. Written requests for single copies of the case study plan and draft case study reports may also be submitted to the U. S. Nuclear Regulatory Commission, Office of Nuclear Materials Safety and Safeguards, Risk Task Group, Mail Stop T-8-A-23, Washington, DC 20555-0001.

Draft reports for each of the case studies will also be available on the Internet at http://www.nrc.gov/NMSS/IMNS/riskassessment.html by October 1, 2001.

Dated at Rockville, MD, this 6th day of September, 2001.
For the Nuclear Regulatory Commission.
Lawrence E. Kokajko,
Section Chief, Risk Task Group, Office of Nuclear Material Safety and Safeguards.

[FR Doc. 01-22864 Filed 9-11-01; 8:45 am]

BILLING CODE 7590-01-P